ENVIRONMENTAL PROTECTION AGENCY

[OAR-2005-0049; FRL-7877-5]

Agency Information Collection Activities: Proposed Collection; Comment Request; National Volatile Organic Compound Emission Standards for Architectural Coatings, EPA ICR Number 1750.04, OMB Control Number 2060-0393

AGENCY: Environmental Protection Agency (EPA).

ACTION: Notice.

SUMMARY: In compliance with the Paperwork Reduction Act (44 U.S.C. 3501, et seq.), this document announces that the Environmental Protection Agency (EPA) is planning to submit a continuing Information Collection Request (ICR) to the Office of Management and Budget (OMB). This is a request to renew an existing approved collection. The existing ICR is scheduled to expire on April 30, 2005. Before submitting the ICR renewal to OMB for review and approval, EPA is soliciting comments on specific aspects of the proposed information collection as described below.

DATES: Comments must be submitted on or before April 26, 2005.

ADDRESSES: Submit your comments, referencing docket ID number OAR-2005-0049, to EPA online using EDOCKET (our preferred method), by electronic mail (e-mail) to a-and-r-docket@epa.gov, or by mail to: EPA Docket Center, EPA, National Volatile Organic Compound Emission Standards for Architectural Coatings, 6102T, 1200 Pennsylvania Ave., NW., Washington, DC 20460.

FOR FURTHER INFORMATION CONTACT: Mr. Dave Salman, Emission Standards Division (C539-03), EPA, Research Triangle Park, North Carolina 27711; telephone number: (919) 541-0859; fax number: (919) 541-5689; e-mail address: salman.dave@epa.gov.

SUPPLEMENTARY INFORMATION: Docket. The EPA has established a public docket for the ICR under Docket ID number OAR-2005-0049 (formerly A-92-18), which is available for public viewing at the Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1742. An electronic version of the public docket is available through EPA Dockets (EDOCKET) at http://www.epa.gov/edocket. Use EDOCKET to obtain a copy of the draft supporting statement for the proposed information collection, submit or view public comments, access the index listing of the contents of the public docket, and to access those documents in the public docket that are available electronically. Once in the system, select “search,” then key in the docket ID number identified above.

Any comments related to the ICR should be submitted to EPA within 60 days of this notice. The EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are those which manufacture or import architectural coatings for sale or distribution in the United States, including the District of Columbia and all United States territories.

Title: National Volatile Organic Compound Emission Standards for Architectural Coatings, OMB Control No. 2060-0393; EPA ICR No. 1750.04; renewal of EPA ICR No. 1750.03 expires April 30, 2005.

Abstract: The information collection includes initial reports, annual reporting, and recordkeeping necessary for EPA to ensure compliance with Federal standards for volatile organic compounds in architectural coatings. Respondents are manufacturers and importers of architectural coatings. Responses to the collection are mandatory under 40 CFR part 59, subpart D—National Volatile Organic Compound Emission Standards for Architectural Coatings. All information submitted to EPA for which a claim of confidentiality is made will be safeguarded according to the Agency policies set forth in 40 CFR part 2, subpart B—Confidentiality of Business Information. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The total industry burden for the renewal information collection is estimated to be 22,761 hours per year, at a total labor cost of $1,599,707 per year. There are no capital costs associated with this collection. More details are available in the draft supporting statement for the renewal information collection which is available in the docket. Burden was calculated based on the following assumptions:

(i) Initial Notification Reports will be submitted by five new respondents per year. The estimated 500 existing regulated entities have already submitted their initial notification reports under the existing and previous ICR.

(ii) Reading the rule to obtain the recordkeeping and reporting instructions would require 2 hours per new respondent.

(iii) Completion of the Initial Notification Report, including the date code explanation, would require 3 hours per new respondent.

(iv) Notification of change in date code would require 2 hours per respondent.

(v) Annual planning for recordkeeping activities would require 8 hours per new respondent.

(vi) Labeling products would require 67 hours per respondent.

(vii) An additional recordkeeping and annual reporting burden, required only for those who choose the recycled coating provision, exceedance fee provision, or tonnage exemption in lieu of meeting the coating volatile organic compound content limits, is based on the assumptions that 25 respondents per year will use the recycled coating provision; 120 will use the exceedance fee provision; and 150 will use the tonnage exemption. The burden estimates for these provisions are 133 hours, 92 hours, and 40 hours per respondent, respectively.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: February 17, 2005.
Gregory A. Green,
Acting Director, Office of Air Quality, Planning, and Standards.

[FR Doc. 05-3683 Filed 2-24-05; 8:45 am]

BILLING CODE 6560-50-P